DEPARTMENT OF TRANSPORTATION

Federal Railroad Administration

Notice of Deadline Extension for Notice of Funding Opportunity for Projects Located Off the Northeast Corridor for the Fiscal Years 2024-2025 Federal-State Partnership for Intercity Passenger Rail Program

AGENCY: Federal Railroad Administration (FRA), Department of Transportation (DOT).

ACTION: Notice of submission deadline extension.

SUMMARY: On September 24, 2025, FRA published in the Federal Register a notice announcing the reissuance of a Notice of Funding Opportunity (NOFO) announcing the availability of funding for eligible projects located off the Northeast Corridor for the Fiscal Years 2024-2025 Federal-State Partnership for Intercity Passenger Rail Program. FRA is extending the application submission deadline from 11:59 p.m. Eastern Time (ET) on January 7, 2026 to 11:59 p.m. ET on February 6, 2026.

FOR FURTHER INFORMATION CONTACT: For further information concerning this notice, grant application submission, and processing questions, please contact FRA-NOFO-Support@dot.gov.

DATES: The full text of the NOFO can be found at www.Grants.gov using the funding opportunity ID FR-FSP-25-006 and on FRA's website at https://railroads.dot.gov/partnership-program. Applications for funding under this solicitation are due no later than 11:59 p.m. ET on February 6, 2026. Applications that are incomplete or received after 11:59 p.m. ET on February 6, 2026 will not be considered for funding. FRA reserves the right to modify this deadline. See Section 4 of the NOFO for additional information on the application process.

SUPPLEMENTARY INFORMATION: This extension of the NOFO application submission deadline modifies the January 7, 2025 deadline stated in the DATES section of two prior notices published in the Federal Register, at 90 FR 45976 (Sep. 24, 2025) and 90 FR 48164 (Oct. 8, 2025).

David A. Fink,
Administrator.

[FR Doc. 2025-22060 Filed 12-4-25; 8:45 am]

BILLING CODE 4910-06-P